DEPARTMENT OF HEALTH AND HUMAN SERVICES

National Institutes of Health

National Institute of Diabetes and Digestive and Kidney Diseases; Notice of Closed Meeting

Pursuant to section 10(d) of the Federal Advisory Committee Act, as amended (5 U.S.C. appendix 2), notice is hereby given of the following meeting.

The meetings will be open to the public as indicated below, with attendance limited to space available. Individuals who plan to attend and need special assistance, such as sign language interpretation or other reasonable accommodations, should notify the Contact Person listed below in advance of the meeting.

The meetings will be closed to the public in accordance with the provisions set forth in sections 552b(c)(4) and 552b(c)(6), title 5 U.S.C., as amended. The grant applications and the discussions could disclose confidential trade secrets or commercial property such as patentable material, and personal information concerning individuals associated with the grant applications, the disclosure of which would constitute a clearly unwarranted invasion of personal privacy.

Name of Committee: National Institute of Diabetes and Digestive and Kidney Diseases Initial Review Group Kidney, Urologic and Hematologic Diseases D Subcommittee.

Date: June 10-11, 2004.

Open: June 10, 2004, 2 p.m. to 2:30 p.m.

Agenda: To review procedures and discuss policies.

Place: Crystal City Marriott, 2899 Jefferson Davis Highway, Arlington, VA 22202.

Closed: June 10, 2004, 2:30 p.m. to 5 p.m.

Agenda: To review and evaluate grant applications.

Place: Crystal City Marriott, 2899 Jefferson Davis Highway, Arlington, VA 22202.

Closed: June 11, 2004, 8 a.m. to 5 p.m.

Agenda: To review and evaluate grant applications.

Place: Crystal City Marriott, 2899 Jefferson Davis Highway, Arlington, VA 22202.

Contact Person: Neal A. Musto, PhD, Scientific Review Administrator, Review Branch, DEA, NIDDK, National Institutes of Health, Room 751, 6707 Democracy Boulevard, Bethesda, MD 20892, (301) 594-7798. muston@extra.niddk.nih.gov.

Name of Committee: National Institute of Diabetes and Digestive and Kidney Diseases Initial Review Group Kidney, Endocrinology and Metabolic Diseases B Subcommittee.

Date: June 13-15, 2004.

Open: June 13, 2004, 7 p.m. to 7:30 p.m.

Agenda: To review and evaluate grant applications.

Place: Hampton Inn & Suites, 1201 Convention Center Blvd., New Orleans, LA 70130.

Closed: June 13, 2004, 7:30 p.m. to 10 p.m.

Agenda: To review and evaluate grant applications.

Place: Hampton Inn & Suites, 1201 Convention Center Blvd., New Orleans, LA 70130.

Closed: June 14, 2004, 8 a.m. to 5 p.m.

Agenda: To review and evaluate grant applications.

Place: Hampton Inn & Suites, 1201 Convention Center Blvd., New Orleans, LA 70130.

Closed: June 15, 2004, 8 a.m. to 5 p.m.

Agenda: To review and evaluate grant applications.

Place: Hampton Inn & Suites, 1201 Convention Center Blvd., New Orleans, LA 70130.

Contact Person: John F. Connaughton, PhD, Scientific Review Administrator, Review Branch, DEA, NIDDK, National Institutes of Health, Room 757, 6707 Democracy Boulevard, Bethesda, MD 20892, (301) 594-7798. connaughtonj@extra.niddk.nih.gov.

Name of Committee: National Institute of Diabetes and Digestive and Kidney Diseases Initial Review Group, Digestive Diseases and Nutrition C Subcommittee.

Date: June 30-July 1, 2004.

Open: June 30, 2004, 8 a.m. to 8:30 a.m.

Agenda: To review procedures and discuss policies.

Place: Hyatt Regency Crystal City, 2799 Jefferson Davis Highway, Arlington, VA 22202.

Closed: June 30, 2004, 8:30 a.m. to 5 p.m.

Agenda: To review and evaluate grant applications.

Place: Hyatt Regency Crystal City, 2799 Jefferson Davis Highway, Arlington, VA 22202.

Closed: July 1, 2004, 8 a.m. to 5 p.m.

Agenda: To review and evaluate grant applications.

Place: Hyatt Regency Crystal City, 2799 Jefferson Davis Highway, Arlington, VA 22202.

Contact Person: Paul A. Rushing, PhD, Scientific Review Administrator, Review Branch, DEA, NIDDK, National Institutes of Health, Room 747, 6707 Democracy Boulevard, Bethesda, MD 20892-5452, (301) 594-8895, rushingp@extra.niddk.nih.gov.

(Catalogue of Federal Domestic Assistance Program Nos. 93.847, Diabetes, Endocrinology and Metabolic Research; 93.848, Digestive Diseases and Nutrition Research; 93.849, Kidney Diseases, Urology and Hematology Research, National Institutes of Health, HHS)

Dated: May 11, 2004.
LaVerne Y. Stringfield,
Director, Office of Federal Advisory Committee Policy.

[FR Doc. 04-11136 Filed 5-14-04; 8:45 am]

BILLING CODE 4140-01-M